FEDERAL RESERVE SYSTEM

Formations of, Acquisitions by, and Mergers of Bank Holding Companies; Correction

This notice corrects a notice (FR Doc. 03-28720) published on page 65932 of the issue for Monday, November 24, 2003.

Under the Federal Reserve Bank of Richmond heading, the entry for Bank of America Corporation, Charlotte, North Carolina, is revised to read as follows:

A. Federal Reserve Bank of Richmond (A. Linwood Gill, III, Vice President) 701 East Byrd Street, Richmond, Virginia 23261-4528:

1. Bank of America Corporation, Charlotte, North Carolina; to merge with FleetBoston Financial Corporation, Boston, Massachusetts, and thereby indirectly acquire Fleet National Bank, Providence, Rhode Island, and Fleet Maine, National Association, South Portland, Maine.

In connection with this proposal, Bank of America has applied to acquire up to 19.9 percent of FleetBoston Financial Corporation, and FleetBoston Financial Corporation has an option to acquire 19.9 percent of the voting shares of Bank of America Corporation.

Comments on this application must be received by January 16, 2004.

Board of Governors of the Federal Reserve System, December 22, 2003.
Jennifer J. Johnson,
Secretary Secretary of the Board.

[FR Doc. 03-31997 Filed 12-30-03; 8:45 am]

BILLING CODE 6210-01-S